DEPARTMENT OF DEFENSE

Office of the Secretary

Worldwide TRICARE Transitional Health Care Demonstration Project

AGENCY: Office of the Secretary, DoD.

ACTION: Notice of a worldwide TRICARE transitional health care demonstration project.

SUMMARY: This notice is to advise interested parties of a demonstration project in which the Military Health System (MHS) will test whether allowing 60 or 120 days of health care eligibility for dependents of service members who are involuntarily separated from the armed forces is necessary, cost-effective and beneficial to the Department of Defense (DoD). At the end of this Project, DoD will conduct an analysis of the benefits and costs of the program in determining whether transitional health care benefits should continue to be an entitlement for these dependents. Information and experience gained as part of this demonstration project will provide the foundation for longer-term solutions in health care policy development and promulgation. This demonstration project is being conducted under the authority of 10 U.S.C. 1092.

EFFECTIVE DATE: This demonstration project applies to all covered health care services provided to dependents of service members who are involuntarily separated from the armed forces on or after January 1, 2002. The DoD will implement the Demonstration upon the announcement of this notice and it will be in effect for 2 years or until rescinded by another authority. In view of the demobilization of over 73,000 reservists and national guardsmen called to active duty in support of deployment to conduct operational missions under Operation Enduring Freedom and Noble Eagle, DoD is waiving the regulation (32 CFR 199.1(o)) requiring at least 30 days notice of a demonstration project prior to its effective date. Waiver of the notice period is deemed necessary to avoid delay in implementing program changes to address obstacles faced by dependents of involuntarily separated service members, reservists and national guardsmen from the onset of the call to active duty.

FOR FURTHER INFORMATION CONTACT: LTC Pradeep G. Gidwani, Office of the Assistant Secretary of Defense for Health Affairs, TRICARE Management Activity, (703) 681-3636.

SUPPLEMENTARY INFORMATION:

A. Background

On December 28, 2001, NDAA 02, Pub. L. 107-107 Subsection 736 (d) eliminated transitional health care eligibility for dependents of service members who are involuntarily separated under honorable conditions or who are separated after being called to or retained on active duty in support of a contingency operation. Section 1145 of Title 10 entitles active duty members departing under such conditions to a period of transitional health care coverage but does not extend coverage for their dependents. Previously, dependents of separated service members supporting contingency operations were entitled up to 30 days of transitional care and dependents of involuntarily separated service members were entitled to 60 days of transitional coverage if the member had been on active duty less than six years or 120 days of transitional coverage if the member had been on active duty for six years or more.

The DoD expects most of these separated service members and their dependents to acquire other health insurance (OHI). Dependents and departing service members could face undue financial hardships during this transition. Accordingly, the Secretary of Defense is authorizing a demonstration project (under Title 10 U.S.C. 1092) for the Department to cover the cost of transitional health care for the dependents of these separated service members effective January 1, 2002.

The Demonstration applies to the dependents of the following members of the armed forces:

A. A member who is involuntarily separated from active duty.

B. A member of a reserve component who is separated from active duty to which called or ordered in support of a contingency operation if the active duty is for a period of more than 30 days.

C. a member who is separated from active duty for which the member is involuntarily retained under 10 U.S.C. 12305, in support of a contingency operation.

D. A member who is separated from active duty pursuant to a voluntary agreement of the member to remain on active duty for a period of less than one year in support of a contingency mission.

The health care available under this Demonstration shall be as follows:

A. An eligible member's dependents who would otherwise be eligible to receive health care in a military treatment facility under 10 U.S.C. 1072(a)(2) if the eligible member was still on active duty will remain eligible for such health care in the same manner from a military treatment facility during the applicable period of eligibility listed below.

B. An eligible member's dependents who would otherwise be eligible to receive health care from civilian facilities or providers under 10 U.S.C. 1079(a) if the eligible member was still on active duty will remain eligible for such health care from civilian facilities or providers under the same rates and conditions during the applicable period of eligibility listed below.

The period of eligibility for dependents under this Demonstration, beginning on the date on which the member is separated, is as follows:

A. For members separated with less than six years of active service, 60 days.

B. For members separated with six or more years of active service, 120 days.

The demonstration project is designed to test an approach for addressing the potential inequity where departing service member health care eligibility is intact but not comparable eligibility for their dependents. The Department's effective response to potential disruption or loss of access to medical care for dependents requires careful review of operational and administrative mechanisms that can ease this hardship during the transition from active duty to civilian status. The demonstration of covering dependents of separating service members is proposed for the purpose of:

A. Assessing the facility for the MHS to provide extended health care coverage for dependents.

B. Determining whether the 60 or 120 days of health care eligibility for dependents is cost-effective, necessary, and beneficial to DoD.

C. Minimizing the uncertainty associated with the transition of separating members to civilian status.

D. Identifying any extraordinary out-of-pocket expenses for dependents.

E. Identifying potential problems associated with the transition process in regards to impaired access, beneficiary satisfaction, and adequacy of providers.

The military departments and Coast Guard will identify beneficiaries eligible for this demonstration program. Eligibility information will be transmitted by the military departments and the Coast Guard to the Defense Manpower Data Center that will establish and maintain beneficiary eligibility data as the Defense Enrollment and Eligibility Record System (DEERS). TRICARE Management Activity (TMA) will notify the managed care support care contractors of this change. DoD's objective is to achieve a level of participation sufficient to test new strategies and will conduct this demonstration worldwide. Demonstration participants will include dependents of separated service members who remain eligible for TRICARE under DoD's transitional health care program. Demonstration participants are eligible for enrollment in TRICARE Prime.

This support is an important element in the welfare of service members and their dependents called to a significant and immediate change in life circumstances. It will prevent undue financial hardships for departing service members and their families during transition from military to civilian life. Information and experience gained as part of this demonstration will provide the foundation for longer-term solutions in the event of future reserve activation or an increase in military forces.

B. Description of Demonstration Project

(1) Location of Project: The number of service members routinely separated from active duty coupled with the demobilization of over 73,000 reservists and national guardsmen in support of Enduring Freedom and Noble Eagle will result in the demand for transitional health care services in many geographical areas in CONUS and overseas. Therefore, to achieve a level of participation sufficient to test new strategies, this demonstration will occur nationwide.

(2) Project Components: The Demonstration will cover all health care services rendered to eligible beneficiaries beginning January 1, 2002.

Dated: June 6, 2002.
Patricia L. Toppings,
Alternate OSD Federal Register Liaison Officer, Department of Defense.

[FR Doc. 02-14708 Filed 6-11-02; 8:45 am]

BILLING CODE 5001-08-P